DEPARTMENT OF LABOR

Employment and Training Administration

Investigations Regarding Certifications of Eligibility to Apply for NAFTA Transitional Adjustment Assistance

Petitions for transitional adjustment assistance under the North American Free Trade Agreement-Transitional Adjustment Assistance Implementation Act (Pub. L. 103-182), hereinafter called (NAFTA-TAA), have been filed with State Governors under Section 250(b)(1) of Subchapter D, Chapter 2, Title II, of the Trade Act of 1974, as amended, are identified in the Appendix to this Notice. Upon notice from a Governor that a NAFTA-TAA petition has been perceived, the Director of the Division of Trade Adjustment Assistance (DTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other person showing a substantial interest in the subject matter of the investigations may request a public hearing with the Director of DTAA at the U.S. Department of Labor (DOL) in Washington, DC provided such request if filed in writing with the Director of DTAA not later than June 26, 2000.

Also, interested persons are invited to submit written comments regarding the subject matter of the petitions to the Director of DTAA at the address shown below not later than June 26, 2000.

Petitions filed with the Governors are available for inspection at the Office of the Director, DTAA, ETA, DOL, Room G-4318, 200 Constitution Avenue, NW, Washington, DC 20210.

Signed at Washington, DC this 7th day of June, 2000.
Grant D. Beale,
Program Manager, Division of Trade Adjustment Assistance.

Appendix
Subject firm | Location | Date received at Governor's office | Petition No. | Articles produced
Competitive Engineering (Wkrs) | Tucson, AZ | 05/15/2000 | NAFTA-3, 910 | Pico carriers.
Hutchinson Technology (Wkrs) | Eau Claire, WI | 05/12/2000 | NAFTA-3, 911 | Technology.
Kym Company (The) (Co.) | Jackson, GA | 05/15/2000 | NAFTA-3, 912 | Apparel.
Mr. Louis Manufacturing (Wkrs) | Hialeah, FL | 04/07/2000 | NAFTA-3, 913 | Women's jackets & formal wear.
Seton Company (Wkrs) | El Paso, TX | 05/23/2000 | NAFTA-3, 914 | Car seats & cushions.
Los Angeles Dept. of Water & Power (Wkrs) | Sun Valley, CA | 05/11/2000 | NAFTA-3, 915 | Maintains the mainframe computers.
Pope and Talbot (Co.) | Newcastle, WY | 05/12/2000 | NAFTA-3, 916 | Soft wood dimension lumber.
BILJO (Co.) | Dublin, GA | 05/22/2000 | NAFTA-3, 917 | Men's & boy's pant and slacks
Robertson Worldwide (UAW) | Rochester, IN | 05/19/2000 | NAFTA-3, 918 | Electronic ballasts.
Jenny K. Fashions (Co.) | Meriden, CT | 05/11/2000 | NAFTA-3, 919 | Women's apparel.
Louisiana Pacific—Ketchikan Pulp Div. (Wks) | Ketchikan, AK | 05/12/2000 | NAFTA-3, 920 | Saw mill.
Mid American Electro Cords (Wkrs) | Middlebury, IN | 05/18/2000 | NAFTA-3, 921 | Cord sets.
Ithaca Industries (Co.) | Wilkesboro, NC | 05/16/2000 | NAFTA-3, 922 | Men's women's & children's underwear.
Butteville Lumber (Co.) | Onalaska, WA | 05/22/2000 | NAFTA-3, 923 | Lumber.
Howden Buffalo (Co.) | Buffalo, NY | 05/15/2000 | NAFTA-3, 924 | Heavy duty fans & blowers.
Applied Sewing Resources (Wkrs) | Orland, CA | 05/04/2000 | NAFTA-3, 925 | Luggage.
Glove Corporation (The) (Co.) | Calico Rock, AR | 05/17/2000 | NAFTA-3, 926 | Work gloves.
Mediacopy (Co.) | San Leandro, CA | 05/22/2000 | NAFTA-3, 927 | Video cassettes.
T and S Sewing (Wkrs) | Hialead Gardens, FL | 04/11/2000 | NAFTA-3, 928 | Women's clothing.
Oshkosh B'Gosh (Wkrs) | Jamestown, TN | 05/23/2000 | NAFTA-3, 929 | Boy's & girl's knit shirts.
Cupples Rubber (Co.) | St. Louis, MO | 05/17/2000 | NAFTA-3, 930 | Rubber inner tubes.
Hoff Forest Products (Co.) | Meridian, ID | 05/26/2000 | NAFTA-3, 931 | Wood mouldings.
Condor D.C. Power Supplies (Co.) | McAllen, TX | 05/24/2000 | NAFTA-3, 932 | Oem switching power supplies.
Sommers (Co.) | Stroudsburg, PA | 05/25/2000 | NAFTA-3, 933 | Narrow fabrics.
Thomson Industries (USWA) | Lancaster, PA | 05/26/2000 | NAFTA-3, 934 | Steel shafting.
Lefever Plastics (Wkrs) | Huntsville, OH | 05/15/2000 | NAFTA-3, 935 | Wiring harness.
Goodyear Tire and Rubber (USWA) | Green, OH | 05/25/2000 | NAFTA-3, 936 | Air springs.
Eaton Corporation (IAMAW) | Milwaukee, WI | 05/25/2000 | NAFTA-3, 937 | Resistors.
Schlegel Construction (Co.) | Kalispell, MT | 05/24/2000 | NAFTA-3, 938 | Transport lumber.
Stanley Works (The) (Co.) | Shelbyville, TN | 05/23/2000 | NAFTA-3, 939 | Hand tools hammers.
Fruit of the Loom (Wkrs) | Frankfort, KY | 05/16/2000 | NAFTA-3, 940 | Decorated garments.
PCS Nitrogen (Wkrs) | Memphis, TN | 05/04/2000 | NAFTA-3, 941 | Ammonium nitrate.
Glacier Gold Compost (Co.) | Olney, MT | 05/19/2000 | NAFTA-3, 942 | Compost, potting soil and mulch.
L. Peter Larson (Co.) | Olney, MT | 05/19/2000 | NAFTA-3, 943 | Raw logs.
Holmes Group — Rival Co. (Wkrs) | Warrensburg, MO | 05/11/2000 | NAFTA-3, 944 | Crock pots & can openers.
Doe Run Resources (The) (Co.) | Vibumum, MO | 05/25/2000 | NAFTA-3, 945 | Lead metal.
Nestle (Co.) | Elizabeth City, NC | 06/01/2000 | NAFTA-3, 946 | Pet treats.
K.P.T. (Wkrs) | Bloomfield, IN | 06/02/2000 | NAFTA-3, 947 | Floor tile.
Spray Cotton Mills (Wkrs) | Eden, NC | 05/30/2000 | NAFTA-3, 948 | Twisted yarn.
AGRI Sales (Wkrs) | DeCauter, IL | 05/02/2000 | NAFTA-3, 949 | Dry edible beans.
Peal Brewing (Wkrs) | San Antonio, TX | 06/02/2000 | NAFTA-3, 950 | Malt beverages.
Rexworks (USWA) | Milwaukee, WI | 05/30/2000 | NAFTA-3, 951 | Frames, rear frames, chute, ladders.
Invensys Best Power (Wkrs) | Necedah, WI | 06/02/2000 | NAFTA-3, 952 | Power modular systems.
Ceng (Co.) | Dexter, GA | 06/01/2000 | NAFTA-3, 953 | Ladies, men's and boy's slacks & uniform.
Honeywell Allied Signal (Wkrs) | Frankfort, KY | 06/05/2000 | NAFTA-3, 954 | Valve machining, air compressors.
Dallco Industries (Co.) | York, PA | 06/05/2000 | NAFTA-3, 955 | Women's & girl's apparel.
H.H. Rosinsky (Wkrs) | Philadelphia, PA | 06/05/2000 | NAFTA-3, 956 | Women's garments.
J.F. Sportswear (UNITE) | Scranton, PA | 06/05/2000 | NAFTA-3, 957 | Men's suit dress & sport coats.
Destination Films (Wkrs) | Santa Monica, CA | 05/28/2000 | NAFTA-3, 958 | Motion picture.
Celestica Corporation (Co.) | Campton, KY | 06/06/2000 | NAFTA-3, 959 | Printed circuit boards.

[FR Doc. 00-15140 Filed 5-14-00; 8:45 am]

BILLING CODE 4510-30-M